DEPARTMENT OF COMMERCE

National Oceanic and Atmospheric Administration

[RTID 0648-XD591]

North Pacific Fishery Management Council; Public Meeting

AGENCY: National Marine Fisheries Service (NMFS), National Oceanic and Atmospheric Administration (NOAA), Commerce.

ACTION: Notice of hybrid meeting.

SUMMARY: The North Pacific Fishery Management Council (Council) Bering Sea Aleutian Islands Crab Plan Team (BSAI CPT) will meet January 8, 2024, to January 12, 2024.

DATES: The meeting will be held on Monday, January 8, 2024, through Friday, January 12, 2024, from 9 a.m. to 5 p.m., AK time.

ADDRESSES: The meeting will be a hybrid meeting. Attend in-person at the North Pacific Fishery Management Council office, 1007 West Third Ave., Suite 400, Anchorage, AK 99501, or join the meeting online through the link at https://meetings.npfmc.org/Meeting/Details/3025.

Council address: North Pacific Fishery Management Council, 1007 West 3rd Ave., Suite 400, Anchorage, AK 99501-2252; telephone: (907) 271-2809. Instructions for attending the meeting via video conference are given under SUPPLEMENTARY INFORMATION, below.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Monday, January 8, 2024 Through Friday, January 12, 2024

The agenda will include: (a) Norton Sound Red King crab (NSRKC) survey updates; (b) NSRKC assessment; (c) recommend crab research priorities; (d) unobserved fishing mortality working group (UFMWG) report; (e) discuss biomass that enables a fish stock to deliver maximum sustainable yield (BMSY) time period; (f) Aleutian Island golden king crab (AIGKC) proposed model run; (g) Economic Stock Assessment and Fishery Evaluation (SAFE) report; (h) snow crab assessment model currency of management discussion; (i) Bering Sea Fisheries Research Foundation (BSFRF) update; (j) risk tables; (k) stock prioritization; (l) handling mortality consistencies; (m) environmental and socioeconomic profile updates; (n) research updates; and (o) other business. The agenda is subject to change, and the latest version will be posted at https://meetings.npfmc.org/Meeting/Details/3025 prior to the meeting, along with meeting materials.

Connection Information

You can attend the meeting online using a computer, tablet, or smart phone, or by phone only. Connection information will be posted online at: https://meetings.npfmc.org/Meeting/Details/3025.

Public Comment

Public comment letters will be accepted and should be submitted electronically to https://meetings.npfmc.org/Meeting/Details/3025.

Authority: 16 U.S.C. 1801 et seq.

Dated: December 18, 2023.
Rey Israel Marquez,
Acting Deputy Director, Office of Sustainable Fisheries, National Marine Fisheries Service.

[FR Doc. 2023-28215 Filed 12-21-23; 8:45 am]

BILLING CODE 3510-22-P